DEPARTMENT OF JUSTICE

Notice of Lodging of Settlement Agreement Under the Comprehensive Environmental Response, Compensation and Liability Act, the Emergency Planning and Community Right-To-Know Act, and Chapter 11 of the United States Bankruptcy Code

Notice is hereby given that on April 12, 2004, a proposed Settlement Agreement (“Agreement”) in In re GenTek, Inc., Case No. 02-12968, was lodged with the United States Bankruptcy Court for the District of Delaware. The Agreement is between GenTek, Inc. and its affiliated debtors and debtors-in-possession (collectively, the “Debtors”) and the United States, on behalf of the United States Environmental Protection Agency (“EPA”), the United States Department of the Interior, and the National Oceanic and Atmospheric Administration of the United States Department of Commerce. The Agreement relates to liabilities of the Debtors under the Comprehensive Environmental Response, Compensation and Liability Act of 1980, 42 U.S.C. 9610 et seq. (“CERCLA”) and the Emergency Planning and Community Right-to-Know Act, 42 U.S.C. 11001 et seq. (“EPCRA”). The Agreement provides as follows:

1. The United States, on behalf of EPA, would receive (a) an allowed general unsecured claim in the amount of $352,437 for unreimbursed response costs incurred through June 27, 2003 in connection with the Allied Chemical Corporation Works Site located in Front Royal, Virginia (Debtor General Chemical Corporation is a potentially responsible party at this site), and (b) and allowed claim in the amount of $36,000 with respect to violations by Debtor General Chemical Corporation of the notice requirements of Section 304 of EPCRA, 42 U.S.C. 11004, with respect to the release of sulfur trioxide on or about January 19, 2000 at the Delaware Valley Works in Claymont, Delaware.

2. The Debtors have agreed to comply with the following Unilateral Administrative Orders (“UAOs”), as amended, issued to Debtor General Chemical Corporation: (a) September 30, 1998 UAO issued by Region 3 of EPA requiring the implementation of a removal action at the Allied Chemical Corporation Works Site located in Front Royal, Virginia, and (b) the August 30, 2000 UAO issued by Region 3 of EPA under the Resource Conservation and Recovery Act, 42 U.S.C. 6901 et seq., with respect to the Delaware Valley Works in Claymont, Delaware.

3. For Debtor-Owned sites, there shall be no discharge under Section 1141 of the Bankruptcy Code with respect to, inter alia, actions against Debtors by the United States under CERCLA or RCRA seeking to compel the performance of a removal action, remedial action, or corrective action.

4. For all other sites including, without limitation, the Kim-Stan Site in Alleghany County, Virginia and the Allied Chemical Corporation Works Site located in Front Royal, Virginia (except for the response costs paid at the site through June 27, 2003 and the obligations of General Chemical Corporation under the September 20, 1998 UAO), the United States may not issue or seek environmental cleanup orders based on the Debtors' conduct before the bankruptcy action, but may recover response costs and natural resource damages based on such conduct, in an amount that is approximately equivalent to the amount the United States would have received if the United States' claims had been allowed unsecured claims under the Debtors' reorganization plan.

For a period of 15 days from the date of this publication, the Department of Justice will receive comments relating to the Agreement. Comments should be addressed to the Assistant Attorney General, Environment and Natural Resources Division, P.O. Box 7611, U.S. Department of Justice, Washington, DC 20044, and should refer to In re GenTek, Inc., Case No. 02-12968 (Bankr. D. Del.), D.J. Ref. No. 90-7-1-23/4. A copy of the comments should be sent to Donald G. Frankel, Department of Justice, Environmental Enforcement Section, One Gateway Center, Suite 616, Newton, MA 02458.

The Agreement may be examined at the Office of the United States Attorney, district of Delaware, 1201 Market Street, Suite 1100, P.O. Box 2046, Wilmington, Delaware 19899-2046 (contact Ellen Slights at 302-573-6277). During the public comment period, the Agreement may also be examined on the following Department of Justice website, http://www.usdoj.gov/enrd/open.html. A copy of the Agreement may also be obtained by mail from the Consent Decree Library, P.O. Box 7611, U.S. Department of Justice, Washington, DC 20044, or by faxing or e-mailing a request to Tonia Fleetwood (tonia.fleetwood@usdoj.gov), fax number (202) 514-0097, phone confirmation number (202) 514-1547. In requesting a copy from the Consent Decree Library, please enclose a check in the amount of $5.00 (25 cents per page reproduction cost) payable to the United States Treasury.

Robert Brook,
Assistant Chief, Environmental Enforcement Section, Environment and Natural Resources Division.

[FR Doc. 04-8664 Filed 4-15-04; 8:45 am]

BILLING CODE 4410-15-M